FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 021721NF.

Name: T.E.E. Transportation Services, LLC.

Address: 4027 Joe Street, Charlotte, NC 28206.

Date Revoked: November 6, 2009.

Reason: Surrendered license voluntarily.

License Number: 020611NF.

Name: Pro Cargo Solutions, Inc.

Address: 2324 Pennsylvania Ave., Ste. #3, Lomita, CA 90717.

Date Revoked: October 12, 2009.

Reason: Surrendered license voluntarily.

License Number: 018275NF.

Name: Global Fritz Logistics Service Co., Ltd.

Address: 15155 El Selinda Dr., Hacienda Heights, CA 91745.

Date Revoked: October 30, 2009.

Reason: Surrendered license voluntarily.

Sandra L. Kusumoto,
Director, Bureau of Certification and Licensing.

[FR Doc. E9-27650 Filed 11-17-09; 8:45 am]

BILLING CODE 6730-01-P